DEPARTMENT OF DEFENSE

GENERAL SERVICES ADMINISTRATION

NATIONAL AERONAUTICS AND SPACE ADMINISTRATION

[OMB Control No. 9000-0201; Docket No. 2020-0053; Sequence No. 6]

Submission for OMB Review; Prohibition on Contracting with Entities Using Certain Telecommunications and Video Surveillance Services or Equipment (FAR Case 2019-009)

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve a revision and extension of a previously approved information collection requirement regarding representations and reporting associated with implementation of Federal Acquisition Regulation (FAR) rule 2019-009, Prohibition on Contracting with Entities Using Certain Telecommunications and Video Surveillance Services or Equipment.

DATES: Submit comments on or before January 11, 2021.

ADDRESSES: Written comments and recommendations for this information collection should be sent within 30 days of publication of this notice to www.reginfo.gov/public/do/PRAMain. Find this particular information collection by selecting “Currently under Review—Open for Public Comments” or by using the search function. Additionally, submit a copy to GSA through http://www.regulations.gov and follow the instructions on the site. This website provides the ability to type short comments directly into the comment field or attach a file for lengthier comments.

Instructions: All items submitted must cite OMB Control No. 9000-0201, Prohibition on Contracting with Entities Using Certain Telecommunications and Video Surveillance Services or Equipment (FAR Case 2019-009). Comments received generally will be posted without change to http://www.regulations.gov, including any personal and/or business confidential information provided. To confirm receipt of your comment(s), please check regulations.gov, approximately two-to-three days after submission to verify posting. If there are difficulties submitting comments, contact the GSA Regulatory Secretariat Division at 202-501-4755 or GSARegSec@gsa.gov.

FOR FURTHER INFORMATION CONTACT: FAR Policy at telephone 202-969-4075, or farpolicy@gsa.gov.

SUPPLEMENTARY INFORMATION:

A. OMB Control Number, Title, and any Associated Form(s)

9000-0201, Prohibition on Contracting with Entities Using Certain Telecommunications and Video Surveillance Services or Equipment (FAR Case 2019-009).

B. Need and Uses

This information collection supports implementation of subparagraph (a)(1)(B) of Section 889 of the John S. McCain National Defense Authorization Act for Fiscal Year 2019 (Pub. L. 115-232). This section prohibits executive agencies from entering into, or extending or renewing, a contract with an entity that uses any equipment, system, or service that uses covered telecommunications equipment or services as a substantial or essential component of any system, or as critical technology as part of any system, on or after August 13, 2020, unless an exception applies or a waiver has been granted.

This requirement is implemented in the FAR through the provision at FAR 52.204-24, Representation Regarding Certain Telecommunications and Video Surveillance Services or Equipment, the clause at FAR 52.204-25, Prohibition on Contracting for Certain Telecommunications and Video Surveillance Services or Equipment, and the provision at FAR 52.204-26, Covered Telecommunications Equipment or Services—Representation.

Information collected under the provision at FAR 52.204-24 will be used to identify if an offeror uses any equipment, system, or service that uses covered telecommunications equipment or services as a substantial or essential component of any system, or as critical technology as part of any system, and their intended use in order to determine whether the prohibition applies.

Information collected under the clause at FAR 52.204-25 will consist of reports from contractors who have identified, post-award, the use of any equipment, system, or service that uses covered telecommunications equipment or services as a substantial or essential component of any system, or as critical technology as part of any system, and requires a disclosure that will be used by agency personnel to identify and consult with legal counsel and the program office on next steps regarding the prohibited equipment or services.

If the Government seeks a waiver from the prohibition, the offeror will be required to provide a full and complete laydown of the presence of covered telecommunications or video surveillance equipment or services in the entity's supply chain, a phase-out plan to eliminate such covered telecommunications equipment or services from the offeror's systems, and any other information necessary for the agency to process the waiver.

Information collected under the provision at FAR 52.204-26 will be used to identify if an offeror uses any covered telecommunications equipment or services, or any equipment, system, or service that uses covered telecommunications equipment or services.

C. Annual Burden

The first notice for this information collection was published prior to the second interim rule that published on August 2 at 85 FR 53126. The information collection has been updated to reflect the second interim rule that added the representation in FAR 52.204-26.

The annual public reporting burden for this collection of information is estimated as follows:

Agency: DoD, GSA, and NASA.

Type of Information Collection: New Collection.

Title of Collection: Representation Regarding Certain Telecommunications and Video Surveillance Services or Equipment.

FAR Provision: 52.204-24

Affected Public: Private Sector—Business.

Total Estimated Number of Respondents: 81,902.

Average Responses per Respondent: 380.

Total Estimated Number of Responses: 31,083,433.

Average Time (for both positive and negative representations) per Response: 3 hours.

Total Annual Time Burden: 93,250,299.

Agency: DoD, GSA, and NASA.

Type of Information Collection: New Collection.

Title of Collection: Prohibition on Contracting for Certain Telecommunications and Video Surveillance Services or Equipment.

FAR Clause: 52.204-25

Affected Public: Private Sector—Business.

Total Estimated Number of Respondents: 5,140.

Average Responses per Respondent: 5.

Total Estimated Number of Responses: 25,700.

Average Time per Response: 3 hours.

Total Annual Time Burden: 77,100.

Agency: DoD, GSA, and NASA.

Type of Information Collection: New Collection.

Title of Collection: Waiver from Prohibition on Contracting for Certain Telecommunications and Video Surveillance Services or Equipment.

FAR Clause: 52.204-25

Affected Public: Private Sector—Business.

Total Estimated Number of Respondents: 20,000.

Average Responses per Respondent: 1.

Total Estimated Number of Responses: 20,000.

Average Time per Response: 160 hours.

Total Annual Time Burden: 3,200,000.

Agency: DoD, GSA, and NASA.

Type of Information Collection: New Collection.

Title of Collection: Covered Telecommunications Equipment or Services—Representation.

FAR Provision: 52.204-26

Affected Public: Private Sector—Business.

Total Estimated Number of Respondents: 387,967.

Average Responses per Respondent: 1.

Total Estimated Number of Responses: 387,967.

Average Time per Response: 1 hour.

Total Annual Time Burden: 387,967.

The public reporting burden for this collection of information consists of a representation to identify whether an offeror uses covered telecommunications equipment or services for each offer as required by FAR 52.204-26 and 52.204-24, information required for a waiver from the prohibition in FAR 52.204-25, and reports of identified use of covered telecommunications equipment or services as required by FAR 52.204-25.

The representation at FAR 52.204-24 is estimated to average 3 hours per response to review the prohibitions, research the source of the product or service, and complete the additional detailed disclosure, if applicable. Reports required by FAR 52.204-25 are estimated to average 3 hours per response, including the time for reviewing definitions, searching existing data sources, gathering and maintaining the data needed, and completing and reviewing the report.

If the Government seeks a waiver from the prohibition, the offeror will be required to provide a full and complete laydown of the presence of covered telecommunications or video surveillance equipment or services in the entity's supply chain and a phase-out plan to eliminate such covered telecommunications equipment or services from the offeror's systems. There is no way to estimate the total number of waivers at this time. For the purposes of complying with the PRA analysis, DoD, GSA, and NASA estimate 20,000 waivers; however there is no data for the basis of this estimate. This estimate may be higher or lower once the rule is in effect.

The representation at FAR 52.204-26 must be completed by each offeror at least annually. This provision requires an offeror to represent whether it “does” or “does not” use covered telecommunications equipment or services, or any equipment, system, or service that uses covered telecommunications equipment or services. The representation at FAR 52.204-26 is estimated to average 1 hour per response to review and complete the representation.

D. Public Comments

The first interim rule to implement Section 889(a)(1)(B) was published in the Federal Register at 85 FR 42665 on July 14, 2020 and included the information collection for the updates to FAR at 52.204-24 and 52.204-25. The request for public comment (60-day notice) on that information collection was published separately at 85 FR 50026 on August 17, 2020. Subsequently, a second interim rule was published at 85 FR 53126 on August 27, 2020 that added an information collection requirement for the provision at FAR 52.204-26 and included a request for public comment (60-day notice) on the revised information collection.

A total of four comments were received on the 60-day notice published on August 17th, and no comments were received on the revised information collection in response to the second interim rule. The comments did not address Paperwork Reduction Act issues. None of the commenters expressed an opinion on whether these collections of information are needed; whether the estimated number of burden hours is accurate; or ways to minimize the burden of the collection of information. We have not changed the estimate of the burden in the rule.

Obtaining Copies: Requesters may obtain a copy of the information collection documents from the GSA Regulatory Secretariat Division by calling 202-501-4755 or emailing GSARegSec@gsa.gov.

Please cite OMB Control No. 9000-0201, Prohibition on Contracting with Entities Using Certain Telecommunications and Video Surveillance Services or Equipment (FAR Case 2019-009).

William F. Clark,
Director, Office of Governmentwide Acquisition Policy, Office of Acquisition Policy, Office of Governmentwide Policy.

[FR Doc. 2020-27211 Filed 12-10-20; 8:45 am]

BILLING CODE 6820-EP-P